COMMITTEE FOR THE IMPLEMENTATION OF TEXTILE AGREEMENTS

Determination under the Textile and Apparel Commercial Availability Provision of the Dominican Republic-Central America-United States Free Trade Agreement (CAFTA-DR Agreement)

September 19, 2007.

AGENCY: The Committee for the Implementation of Textile Agreements (CITA).

ACTION: Determination to add a product in unrestricted quantities to Annex 3.25 of the CAFTA-DR Agreement.

EFFECTIVE DATE: September 26, 2007.

SUMMARY: The Committee for the Implementation of Textile Agreements (CITA) has determined that certain two-way stretch woven fabric of polyester, rayon, and elastomeric yarns, as specified below, are not available in commercial quantities in a timely manner in the CAFTA-DR countries. The product will be added to the list in Annex 3.25 of the CAFTA-DR Agreement in unrestricted quantities.

FOR FURTHER INFORMATION CONTACT: Richard Stetson, Office of Textiles and Apparel, U.S. Department of Commerce, (202) 482 2582.

FOR FURTHER INFORMATION ON-LINE: http://web.ita.doc.gov/tacgi/CaftaReqTrack.nsf. Reference number: 34.2007.08.20.Fabric.Alston&Birdfor GlenRiverTrading.

SUPPLEMENTARYINFORMATION:

Authority: Section 203(o)(4) of the Dominican Republic-Central America-United States Free Trade Agreement Implementation Act (CAFTA-DR Act); the Statement of Administrative Action (SAA), accompanying the CAFTA-DR Act; Presidential Proclamations 7987 (February 28, 2006) and 7996 (March 31, 2006).

BACKGROUND:

The CAFTA-DR Agreement provides a list in Annex 3.25 for fabrics, yarns, and fibers that the Parties to the CAFTA-DR Agreement have determined are not available in commercial quantities in a timely manner in the territory of any Party. The CAFTA-DR Agreement provides that this list may be modified pursuant to Article 3.25(4)-(5), when the President of the United States determines that a fabric, yarn, or fiber is not available in commercial quantities in a timely manner in the territory of any Party. See Annex 3.25, Note; see also section 203(o)(4)(C) of the Act.

The CAFTA-DR Act requires the President to establish procedures governing the submission of a request and providing opportunity for interested entities to submit comments and supporting evidence before a commercial availability determination is made. In Presidential Proclamations 7987 and 7996, the President delegated to CITA the authority under section 203(o)(4) of CAFTA-DR Act for modifying the Annex 3.25 list. On March 21, 2007, CITA published final procedures it would follow in considering requests to modify the Annex 3.25 list (72 FR 13256).

On August 20, 2007, the Chairman of CITA received a commercial availability request from Alston & Bird, LLP, on behalf of Glen River Trading, for certain two-way stretch woven fabrics of polyester, rayon, and elastomeric yarns, of the specifications detailed below. On August 22, 2007, CITA notified interested parties of, and posted on its website, the accepted petition and requested that interested entities provide, by September 4, 2007, a response advising of its objection to the commercial availability request or its ability to supply the subject product. CITA also explained that rebuttals to responses were due to CITA by September 10, 2007.

No interested entity filed a response advising of its objection to the request or its ability to supply the subject product.

In accordance with Section 203(o)(4)(C) of the CAFTA-DR Act, and its procedures, as no interested entity submitted a response objecting to the request or expressing an ability to supply the subject product, CITA has determined to add the specified fabrics to the list in Annex 3.25 of the CAFTA-DR Agreement.

The subject fabrics are added to the list in Annex 3.25 of the CAFTA-DR Agreement in unrestricted quantities.

Woven fabric specifications:

HTS Subheading: | 5515.11.00
Fiber content: | 50 to 77 percent polyester (except for fabrics comprising single yarns in the warp, the polyester content may be higher); 18 to 47 percent rayon; 3 to 8 percent spandex
Staple length: | 4.44 to 6.99 centimeters
Yarns | (three configurations):
| Configuration #1: Warp and filling: plied polyester/rayon staple of various yarn sizes, combined with spandex filament of various deniers.
| Configuration #2: Warp and filling: 34/1 metric or finer* polyester/rayon staple yarn, combined with spandex filament yarn of various deniers.
| Configuration #3:
| Warp: 34/1 metric or finer* polyester/rayon staple, or plied polyester/rayon staple of various yarn sizes, combined with spandex filament of various deniers.
| Filling: singles or plied polyester filament of various yarn sizes, combined with spandex filament of various deniers.
| * NOTE:The designation “34/1 (English 20/1) or finer” describes a range of yarn specifications for yarn it its greige condition before dyeing and finishing of the yarn (if applicable) and before weaving, dyeing and finishing of the fabric. It is intended as a specification to be followed by the mill in sourcing yarn used to produce the fabric. Dyeing, finishing and weaving can alter the characteristic of the yarn as it appears in the finished fabric. This specification therefore includes yarns appearing in the finished fabric as coarser than 34/1 (English 20/1) provided that the coarser appearance occurs solely as the result of such processes.
Thread count: | 23 to 51 warp ends by 16 to 39 filling picks per centimeter
Weave type: | Various (including plain and twill)
Weight: |
| 200 to 290 grams per square meter for fabrics comprising of single yarns in the warp
| 200 to 310 grams per square meter for fabrics comprising of plied yarns in the warp
Width: | 121 to 165 centimeters
Finish: | Dyed and of yarns of different colors

R. Matthew Priest,
Chairman, Committee for the Implementation of Textile Agreements.

[FR Doc. E7-18986 Filed 9-25-07; 8:45 am]

BILLING CODE 3510-DS